DEPARTMENT OF COMMERCE

Foreign-Trade Zones Board

[Docket 31-2000]

Foreign-Trade Zone 138—Columbus, Ohio Area; Application for Expansion

An application has been submitted to the Foreign-Trade Zones (FTZ) Board (the Board), by the Rickenbacker Port Authority (RPA), grantee of Foreign-Trade Zone 138, requesting authority to expand its zone in the Columbus, Ohio area, adjacent to the Columbus Customs port of entry. The application was submitted pursuant to the provisions of the Foreign-Trade Zones Act, as amended (19 U.S.C. 81a-81u), and the regulations of the Board (15 CFR Part 400). It was formally filed on June 20, 2000.

FTZ 138 was approved on March 13, 1987 (Board Order 351, 52 FR 9319, 3/24/87) and expanded on February 23, 1994 (Board Order 685, 59 FR 10783, 3/8/94) and November 9, 1999 (Board Order 1063, 64 FR 63786, 11/22/99). The general-purpose zone currently consists of two sites: Site 1 (4,713 acres—4 parcels)—at the Rickenbacker International Airport in Franklin County and Site 2 (136 acres, 3 adjacent parcels)—industrial park project, McClain Road, Lima (Allen County).

The applicant is now requesting authority to expand the general-purpose zone to include four additional sites in Ross, Fairfield, Guernsey and Madison Counties, Ohio: Proposed Site 3 (42-acres)—within the 90-acre Gateway Interchange Industrial Park (owned by the Ross Community Improvement Corporation), State Route 104 and U.S. Route 35, Chillicothe (Ross County); Proposed Site 4 (44 acres)—within the 960 acre Rock Mill Industrial Park (owned by the Lancaster Area Community Improvement Corporation), south of Mill Park Drive, Lancaster (Fairfield County); Proposed Site 5 (133 acres)—within the 149 acre D.O. Hall Business Center (owned by the Community Industrial Association of Cambridge-Guernsey County), SR 660 and north of Reitler Road, Cambridge (Guernsey County); and, Proposed Site 6 (74 acres)—within the Eagleton Industrial Park (owned by MTB Corporation and Building Systems Transportation), S.R.142 and west of Spring Valley Road, London (Madison County). This expansion is being requested as part of a local economic development project known as the Greater Columbus Inland Port Program. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is August 28, 2000. Rebuttal comments in response to material submitted during the foregoing period may be submitted during the subsequent 15-day period September 11, 2000.

A copy of the application and accompanying exhibits will be available for public inspection at each of the following locations:

U.S. Department of Commerce, Export Assistance Center, Two Nationwide Plaza, Suite 1400, Columbus, Ohio 43215.

Office of the Executive Secretary, Foreign-Trade Zones Board, Room 4008, U.S. Department of Commerce, 14th & Pennsylvania Avenue, NW., Washington, DC 20230.

Dated: June 22, 2000.
Pierre Duy,
Acting Executive Secretary.

[FR Doc. 00-16375 Filed 6-27-00; 8:45 am]

BILLING CODE 3510-DS-P